AGENCY FOR INTERNATIONAL DEVELOPMENT

Bureau for Democracy, Conflict and Humanitarian Assistance; Office of Food for Peace; Announcement of Food for Peace Draft Title II Proposal Guidance and Program Policies Fiscal Year 2010; Notice

Pursuant to the Agricultural Trade Development and Assistance Act of 1954 (Pub. L. 480, as amended), notice is hereby given that the draft Title II Proposal Guidance and Program Policies Fiscal Year 2010 will be available to interested parties for general viewing.

For individuals who wish to review this guidance, the draft Title II Proposal Guidance and Program Policies will be available for your review for thirty days via the Food for Peace Web site: http://www.usaid.gov/our_work/humanitarian_assistance/ffp/guide.html on or about August 24, 2009. Interested parties can also receive a copy of the draft guidance by contacting the Office of Food for Peace, U.S. Agency for International Development, RRB 7.06-152, 1300 Pennsylvania Avenue, NW., Washington, DC 20523-7600.

Juli Majernik,
Grants Manager, Policy and Technical Division, Office of Food for Peace, Bureau for Democracy, Conflict and Humanitarian Assistance.

[FR Doc. E9-20001 Filed 8-19-09; 8:45 am]

BILLING CODE 6116-01-P